DEPARTMENT OF TRANSPORTATION

Federal Aviation Administration

14 CFR Part 39

[Docket No. FAA-2012-0087; Directorate Identifier 2011-SW-029-AD]

RIN 2120-AA64

Airworthiness Directives; Bell Helicopter Textron Canada, Limited (Bell) Helicopters

AGENCY: Federal Aviation Administration (FAA), DOT.

ACTION: Notice of proposed rulemaking (NPRM).

SUMMARY: We propose to adopt a new airworthiness directive (AD) for the Bell Model 206, 206A, 206A-1, 206B, 206B-1, 206L, 206L-1, 206L-3, and 206L-4 helicopters with Aviation Specialties Unlimited Inc. (ASU) Night Vision Imaging System (NVIS) lighting modified by Supplemental Type Certificate SR01383SE (STC). This proposed AD is prompted by the finding that an unfiltered turbine outlet temperature (TOT) indicator over-temperature warning light, when illuminated, created glare and reflections that could degrade the pilot's view while using night vision goggles thereby creating an unsafe condition. The proposed actions are intended to modify any unfiltered TOT indicator unit over-temperature warning light by installing a filter to prevent degradation of the pilot's vision while using night vision goggles and to prevent subsequent loss of control of the helicopter.

DATES: We must receive comments on this proposed AD by April 3, 2012.

ADDRESSES: You may send comments by any of the following methods:

• Federal eRulemaking Docket: Go to http://www.regulations.gov. Follow the instructions for sending your comments electronically.

• Fax: (202) 493-2251.

• Mail: Send comments to the U.S. Department of Transportation, Docket Operations, M-30, West Building Ground Floor, Room W12-140, 1200 New Jersey Avenue SE., Washington, DC 20590-0001.

• Hand Delivery: Deliver to Mail address above between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone: (800) 647-5527) is in the ADDRESSES section. Comments will be available in the AD docket shortly after receipt.

For service information identified in this proposed AD, contact Aviation Specialties Unlimited Inc., 4632 Aeronca Street, Boise, Idaho 83705, telephone (208) 426-8117, fax (208) 426-8975 or http://www.asu-nvg.com/. You may review copies of the referenced service information at the FAA, Office of the Regional Counsel, Southwest Region, 2601 Meacham Blvd. Room 663, Fort Worth, TX 76137.

FOR FURTHER INFORMATION CONTACT: Kathleen Arrigotti, Aviation Safety Engineer, FAA, Seattle Aircraft Certification Office, Airframe Branch, 1601 Lind Avenue SW., Renton, Washington 98057, telephone (425) 917-6426, fax (425) 917-6590; email kathleen.arrigotti@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We propose to adopt a new AD for the specified Bell model helicopters with an ASU Night Vision Lighting Imaging System installed per STC SR01383SE. This proposed AD is prompted by the finding that an unfiltered TOT indicator over-temperature warning light, when illuminated, created glare and reflections that could degrade the pilot's view while the pilot is using night vision goggles. This proposed AD would require determining the date of the STC installation, determining whether each helicopter has a TOT indicator unit with an internal over-temperature warning light. If an unfiltered TOT indicator over-temperature warning light is installed, this AD would require installing an NVIS filter. The proposed actions are intended to modify any unfiltered TOT indicator unit over-temperature warning light by installing a filter to prevent degradation of the pilot's vision while using night vision goggles and to prevent subsequent loss of control of the helicopter.

FAA's Determination

We are proposing this AD because we evaluated all known relevant information and determined that an unsafe condition exists and is likely to exist or develop on other helicopters with NVIS lighting installed per STC SR01383SE on or before April 6, 2011.

Relevant Service Information

We reviewed ASU's Alert Service Bulletin No. ASU 206-2010-11-1, dated November 4, 2010 (ASB) for the Bell Helicopter Textron 206 series helicopters. The ASB states to visually inspect each helicopter to determine if the TOT indicator/gauge has an internal over-temperature warning light installed. If the over-temperature warning light is internal, the ASB specifies notifying ASU. ASU states it will immediately ship an NVIS filter, part number (P/N) ASU-TOTGAG-1.

Proposed AD Requirements

This proposed AD would require, within 30 days or 50 hours time-in-service, whichever occurs first, determining the date of the STC installation. If the date is on or before April 6, 2011, or the date is undocumented, this AD would require determining if the TOT indicator unit has an internal over-temperature warning light. If the unit has an unfiltered internal over-temperature warning light, this AD would require installing an NVIS filter, P/N ASU-TOTGAG-1.

Differences Between This Proposed AD and the Service Information

This proposed AD does not apply to helicopters modified by the STC after April 6, 2011, because a new design was approved for the STC on April 6, 2011, and contained instructions to install the NVIS over-temperature indicator light filter. This proposed AD does not require you to notify ASU.

Costs of Compliance

We estimate that this proposed AD would affect 34 helicopters of U.S. registry. We estimate that operators may incur the following costs to comply with this AD: Determining the date, inspecting for an unfiltered, over-temperature TOT indicator light in the cockpit, and installing a filter would take about 1.8 work hours at $85 per hour. A filter would cost about $300. The total cost would be $15,402 assuming the filter would be installed on the entire fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

We prepared an economic evaluation of the estimated costs to comply with this proposed AD and placed it in the docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bell Helicopter Textron Canada, Limited (Bell): Docket No. FAA-2012-0087; Directorate Identifier 2011-SW-029-AD.

(a) Applicability

This AD applies to Model 206, 206A, 206A-1, 206B, 206B-1, 206L, 206L-1, 206L-3, and 206L-4 helicopters, certificated in any category, modified with Aviation Specialties Unlimited Inc. (ASU) Night Vision Imaging System (NVIS) lighting installed per Supplemental Type Certificate (STC) SR01383SE.

(b) Unsafe Condition

This AD defines the unsafe condition as an unfiltered turbine outlet temperature (TOT) indicator over-temperature warning light, when illuminated, creating glare and reflections that could degrade the pilot's view through night vision goggles. This condition could result in loss of control of the helicopter.

(c) Compliance

You are responsible for performing each action required by this AD within the specified compliance time unless it has already been accomplished prior to that time.

(d) AD Requirements

Within 30 days or 50 hours time-in-service, whichever occurs first:

(1) Determine the date of the STC installation.

(2) If the date of the STC installation is on or before April 6, 2011, or the date is undocumented, determine whether the cockpit TOT indicator unit has an unfiltered internal over-temperature warning light. If the unit has an unfiltered internal over-temperature warning light, install an NVIS filter, part number ASU-TOTGAG-1.

(e) Alternative Methods of Compliance (AMOCs)

(1) The Manager, Seattle Aircraft Certification Office, FAA, may approve AMOCs for this AD. Send your proposal to: Kathleen Arrigotti, Aviation Safety Engineer, FAA, Seattle Aircraft Certification Office, Airframe Branch, 1601 Lind Avenue SW., Renton, Washington 98057, telephone (425) 917-6426, fax (425) 917-6590; email 9-ANM-Seattle-ACO-AMOC-Requests@faa.gov.

(2) For operations conducted under a part 119 operating certificate or under part 91, Subpart K, we suggest that you notify your principal inspector, or lacking a principal inspector, notify the manager of the local flight standards district office or certificate holding district office before operating any aircraft complying with this AD through an AMOC.

(f) Additional Information

Aviation Specialties Unlimited Inc., Alert Service Bulletin No. ASU 206-2010-11-1, dated November 4, 2010, contains information pertaining to the subject of this AD. This service information is not incorporated by reference. You may review copies of this service information at the FAA, Office of the Regional Counsel, 2601 Meacham Blvd., Fort Worth, TX 76193.

(g) Subject

Joint Aircraft System Component (JASC) Code: 7722: Engine EFT/TOT Indicating System.

Issued in Fort Worth, Texas, on January 23, 2012.
Kim Smith,
Manager, Rotorcraft Directorate, Aircraft Certification Service.

[FR Doc. 2012-2427 Filed 2-2-12; 8:45 am]

BILLING CODE 4910-13-P